DEPARTMENT OF HEALTH AND HUMAN SERVICES

National Institutes of Health

Center for Scientific Review; Amended Notice of Meeting

Notice is hereby given of a change in the meeting of the Center for Scientific Review Special Emphasis Panel, October 22, 2008, 8 a.m. to October 23, 2008, 5 p.m., Holiday Inn Express Hotel and Suites, San Francisco Fisherman's Wharf, 550 North Point Street, San Francisco, CA 94133, which was published in the Federal Register on September 19, 2008, 73 FR 54408-54411.

The meeting will be held one day only October 22, 2008. The meeting time and location remain the same. The meeting is closed to the public.

Dated: October 8, 2008.
Jennifer Spaeth,
Director, Office of Federal Advisory Committee Policy.

[FR Doc. E8-24448 Filed 10-16-08; 8:45 am]

BILLING CODE 4140-01-M